DEPARTMENT OF THE TREASURY

Customs Service

[T.D. 02-26]

Tuna Fish—Tariff-Rate Quota

AGENCY: U.S. Customs Service, Department of the Treasury.

ACTION: Announcement of the quota quantity for tuna for Calendar Year 2002.

The tariff-rate quota for Calendar Year 2002, on tuna classifiable under subheading 1604.14.20, Harmonized Tariff Schedule of the United States (HTSUS).

SUMMARY: Each year the tariff-rate quota for tuna fish described in subheading 1604.14.20, HTSUS, is based on the United States canned tuna production for the preceding calendar year. This document sets forth the quota for calendar year 2002.

EFFECTIVE DATES: The 2002 tariff-rate quota is applicable to tuna fish entered, or withdrawn from warehouse, for consumption during the period January 1, through December 31, 2002.

FOR FURTHER INFORMATION CONTACT: Connie Chancey, Chief, Quota Branch, Textile Enforcement and Operations Division, Trade Programs, Office of Field Operations, U.S. Customs Service, Washington, DC 20229, (202) 927-5399.

Background: It has now been determined that 18,119,908 kilograms of tuna may be entered for consumption or withdrawn from warehouse for consumption during the Calendar Year 2002, at the rate of 6 percent ad valorem under subheading 1604.14.20, HTSUS. Any such tuna which is entered, or withdrawn from warehouse, for consumption during the current calendar year in excess of this quota will be dutiable at the rate of 12.5 percent ad valorem under subheading 1604.14.30 HTSUS.

Dated: May 2, 2002.
Robert C. Bonner,
Commissioner.

[FR Doc. 02-11946 Filed 5-13-02; 8:45 am]

BILLING CODE 4820-02-P